DEPARTMENT OF LABOR

Employment and Training Administration

[TA-W-71,919]

Denso Manufacturing of Michigan Including On-Site Leased Workers From Adecco Employment Services, Adecco Technical, Aerotec, Inc., Anchor Staffing, Capitol Software Systems, Donohue Computer Services, Historic Northside Family Practice, Scripture and Associates, Summit Software Services DD, Tacworldwide Companies, Talent Trax, Tek Systems, Kelly Services and Employment Group, Battle Creek, MI; Amended Certification Regarding Eligibility To Apply for Worker Adjustment Assistance

In accordance with Section 223 of the Trade Act of 1974, as amended (“Act”), 19 U.S.C. 2273, the Department of Labor issued a Certification of Eligibility to Apply for Worker Adjustment Assistance on September 10, 2009, applicable to workers of Denso Manufacturing of Michigan, including leased workers from Adecco Employment Services, Adecco Technical, Aerotec, Inc., Anchor Staffing, Capitol Software Systems, Donohue Computer Services, Historic Northside Family Practice, Scripture and Associates, Summit Software Services DD, Tacworldwide Companies, Talent Trax, Tek Systems and Kelly Services, Battle Creek, Michigan. The notice was published in the Federal Register on November 5, 2009 (74 FR 57338).

At the request of the State Agency, the Department reviewed the certification for workers of the subject firm. The workers are engaged in the production of heat exchangers.

New information shows that workers leased from Employment Group were employed on-site at the Battle Creek, Michigan location of Denso Manufacturing of Michigan. The Department has determined that these workers were sufficiently under the control of the subject firm to be considered leased workers.

Based on these findings, the Department is amending this certification to include workers leased from Employment Group working on-site at the Battle Creek, Michigan location of Denso Manufacturing of Michigan.

The amended notice applicable to TA-W-71,919 is hereby issued as follows:

All workers of Denso Manufacturing of Michigan, including leased workers from Adecco Employment Services, Adecco Technical, Aerotec, Inc., Anchor Staffing, Capitol Software Systems, Donohue Computer Services, Historic Northside Family Practice, Scripture and Associates, Summit Software Services DD, Tacworldwide Companies, Talent Trax, Tek Systems, Kelly Services and Employment Group, Battle Creek, Michigan, who became totally or partially separated from employment on or after August 3, 2008, through September 10, 2011, and all workers in the group threatened with total or partial separation from employment on the date of certification through two years from the date of certification, are eligible to apply for adjustment assistance under Chapter 2 of Title II of the Trade Act of 1974, as amended.

Signed at Washington, DC, this 5th day of May 2010.
Richard Church,
Certifying Officer, Division of Trade Adjustment Assistance.

[FR Doc. 2010-12105 Filed 5-19-10; 8:45 am]

BILLING CODE 4510-FN-P